DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of November 19, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Santa Rosa County, Florida and Incorporated Areas
Docket No.: FEMA-B-2022
City of Gulf Breeze | City Hall, 1070 Shoreline Drive, Gulf Breeze, FL 32561.
City of Milton | Planning and Development Department, 6738 Dixon Street, Milton, FL 32572.
Town of Jay | Town Hall, 3695 Highway 4, Jay, FL 32565.
Unincorporated Areas of Santa Rosa County | Santa Rosa County Public Services Department, 6051 Old Bagdad Highway, Milton, FL 32583.
Jones County, Iowa and Incorporated Areas
Docket No.: FEMA-B-1911 and FEMA-B-2047
City of Anamosa | City Hall, 107 South Ford Street, Anamosa, IA 52205.
City of Monticello | City Hall, 200 East 1st Street, Monticello, IA 52310.
City of Morley | City Hall, 507 Vine Street, Morley, IA 52312.
City of Olin | City Hall, 303 Jackson Street, Olin, IA 52320.
City of Oxford Junction | City Hall, 103 East Broadway Street, Oxford Junction, IA 52323.
City of Wyoming | City Hall, 141 West Main Street, Wyoming, IA 52362.
Unincorporated Areas of Jones County | Jones County Engineer's Office, 19501 Highway 64, Anamosa, IA 52205.
Forrest County, Mississippi and Incorporated Areas
Docket No.: FEMA-B-2007
City of Hattiesburg | City Hall, 200 Forrest Street, Hattiesburg, MS 39401.
City of Petal | Building Department, 101 West 8th Avenue, Petal, MS 39465.
Unincorporated Areas of Forrest County | Forrest County Chancery Building, 641 Main Street, Hattiesburg, MS 39401.
Greene County, Mississippi and Incorporated Areas
Docket No.: FEMA-B-2007
Town of McLain | Town Hall, 106 South Church Avenue, McLain, MS 39456.
Unincorporated Areas of Greene County | Greene County Emergency Management, 401 McInnis Avenue, Leakesville, MS 39451.
Jones County, Mississippi and Incorporated Areas
Docket No.: FEMA-B-2007
City of Ellisville | City Hall, 110 North Court Street, Ellisville, MS 39437.
City of Laurel | City Hall, 401 North 5th Avenue, Laurel, MS 39440.
Unincorporated Areas of Jones County | Jones County Circuit Court, 415 North 5th Avenue, Laurel, MS 39440.
Perry County, Mississippi and Incorporated Areas
Docket No.: FEMA-B-2007
Town of Richton | City Hall, 206 Dogwood Avenue East, Richton, MS 39476.
Unincorporated Areas of Perry County | Perry County Board of Supervisors Administration Building, 101 Main Street, New Augusta, MS 39462.
Clinton County, Ohio and Incorporated Areas
Docket No.: FEMA-B-2031
City of Wilmington | Municipal Building, 69 North South Street, Wilmington, OH 45177.
Unincorporated Areas of Clinton County | Clinton County Engineer, 1326 Fife Avenue, Wilmington, OH 45177.
Village of Blanchester | Municipal Building, 318 East Main Street, Blanchester, OH 45107.
Highland County, Ohio and Incorporated Areas
Docket No.: FEMA-B-2031
Unincorporated Areas of Highland County | Highland County Commissioners Office, 119 Governor Foraker Place, Suite 211, Hillsboro, OH 45133.
Village of Lynchburg | Village Hall, 155 South Main Street, Lynchburg, OH 45142.
Salt Lake County, Utah and Incorporated Areas
Docket No.: FEMA-B-2000
City of Bluffdale | City Hall, 2222 West 14400 South, Bluffdale, UT 84065.
City of Draper | City Hall, 1020 East Pioneer Road, Draper, UT 84020.
City of Herriman City | City Hall, 5355 West Herriman Main Street, Herriman City, UT 84096.
City of Millcreek | City Hall, 3330 South 1300 East, Millcreek, UT 84106.
City of Riverton | City Hall, 12830 South Redwood Road, Riverton, UT 84065.
City of Salt Lake City | Engineering Division, 349 South 200 East, Suite 600, Salt Lake City, UT 84111.
City of Sandy City | Public Utilities, 10000 Centennial Parkway, Suite 241, Sandy City, UT 84070.
Unincorporated Areas of Salt Lake County | Salt Lake County Public Works, Engineering, 2001 South State Street, Suite N3-120, Salt Lake City, UT 84190.

[FR Doc. 2021-16439 Filed 7-30-21; 8:45 am]

BILLING CODE 9110-12-P